DEPARTMENT OF COMMERCE

Patent and Trademark Office

37 CFR Part 1

RIN 0651-AB01

Revision of Patent Fees for Fiscal Year 2001

AGENCY: United States Patent and Trademark Office, Commerce.

ACTION: Final rule.

SUMMARY: The United States Patent and Trademark Office (USPTO) is amending the rules of practice in patent cases to adjust certain patent fee amounts to reflect fluctuations in the Consumer Price Index (CPI). The USPTO is also amending the description of two fees to reflect current business practice.

EFFECTIVE DATE: October 1, 2000.

FOR FURTHER INFORMATION CONTACT: Matthew Lee by telephone at (703) 305-8051, by fax at (703) 305-8007, or by e-mail at matthew.lee@uspto.gov.

SUPPLEMENTARY INFORMATION: This final rule adjusts our fees in accordance with the applicable provisions of title 35, United States Code, as amended by the Consolidated Appropriations Act, Fiscal Year 2000 (which incorporated the Intellectual Property and Communications Omnibus Reform Act of 1999) (Public Law 106-113).

Background

Statutory Provisions

Patent fees are authorized by 35 U.S.C. 41 and 35 U.S.C. 376. A fifty percent reduction in the fees paid under 35 U.S.C. 41(a) and (b) by independent inventors, small business concerns, and nonprofit organizations who meet prescribed definitions is required by 35 U.S.C. 41(h)(1).

Subsection 41(f) of title 35, United States Code, provides that fees established under 35 U.S.C. 41(a) and (b) may be adjusted on October 1, 1992, and every year thereafter, to reflect fluctuations in the CPI over the previous twelve months.

Subsection 41(d) of title 35, United States Code, authorizes the Director to establish fees for all other processing, services, or materials related to patents to recover the average cost of providing these services or materials, except for the fees for recording a document affecting title, for each photocopy, for each black and white copy of a patent, and for library services.

Section 376 of title 35, United States Code, authorizes the Director to set fees for patent applications filed under the Patent Cooperation Treaty (PCT).

Subsection 41(g) of title 35, United States Code, provides that new fee amounts established by the Director under section 41 may take effect thirty days after notice in the Federal Register and the Official Gazette of the United States Patent and Trademark Office.

Fee Adjustment Level

The patent statutory fees established by 35 U.S.C. 41(a) and (b) will be adjusted on October 1, 2000, to reflect any fluctuations occurring during the previous twelve months in the Consumer Price Index for all urban consumers (CPI-U). In calculating these fluctuations, the Office of Management and Budget (OMB) has determined that the USPTO should use CPI-U data as determined by the Secretary of Labor. In accordance with previous fee-setting methodology, the USPTO uses the Administration's projected CPI-U for the twelve-month period ending September 30, 2000, which is 2.68 percent. Based on this projection, patent statutory fees will be adjusted by 2.68 percent.

Certain patent processing fees established under 35 U.S.C. 41(d), 132(b), 376, and Public Law 103-465 (the Uruguay Round Agreements Act) will be adjusted to reflect fluctuations in the CPI.

Four patent service fees that are set by statute will not be adjusted. The four fees that are not being adjusted are the assignment recording fee, printed patent copy fee, photocopy charge fee, and library service fee.

The fee amounts were rounded by applying standard arithmetic rules so that the amounts rounded would be convenient to the user. Fees of $100 or more were rounded to the nearest $10. Fees between $2 and $99 were rounded to an even number so that any comparable small entity fee would be a whole number.

General Procedures

Any fee amount that is paid on or after the effective date of the fee increase will be subject to the new fees then in effect. For purposes of determining the amount of the fee to be paid, the date of mailing indicated on a proper Certificate of Mailing or Transmission, where authorized under 37 CFR 1.8, will be considered to be the date of receipt in our office. A Certificate of Mailing or Transmission under § 1.8 is not proper for items which are specifically excluded from the provisions of § 1.8. Items for which a Certificate of Mailing or Transmission under § 1.8 are not proper include, for example, for filing of Continued Prosecution Applications (CPAs) under § 1.53(d) and other national and international applications for patents. See 37 CFR 1.8(a)(2).

Under 37 CFR 1.10(a), any correspondence delivered by the “Express Mail Post Office to Addressee” service of the United States Postal Service (USPS) is considered filed or received in our office on the date of deposit with the USPS. The date of deposit with the USPS is shown by the “date-in” on the “Express Mail” mailing label or other official USPS notation.

To ensure clarity in the implementation of the new fees, a discussion of specific sections is set forth below.

Discussion of Specific Rules

37 CFR 1.16 National Application Filing Fees

Section 1.16, paragraphs (a), (b), (d), and (f) through (i), are revised to adjust fees established therein to reflect fluctuations in the CPI.

37 CFR 1.17 Patent Application Processing Fees

Section 1.17, paragraphs (a)(2) through (a)(5), (b) through (e), (m), (r), and (s), are revised to adjust fees established therein to reflect fluctuations in the CPI.

37 CFR 1.18 Patent Issue Fees

Section 1.18, paragraphs (a) through (c), are revised to adjust fees established therein to reflect fluctuations in the CPI.

37 CFR 1.20 Post-Issuance Fees

Section 1.20, paragraphs (e) through (g), are revised to adjust fees established therein to reflect fluctuations in the CPI.

37 CFR 1.21 Miscellaneous Fees and Charges

Section 1.21, paragraph (a)(6), is revised to amend the description to reflect current business practices.

37 CFR 1.492 National Stage Fees

Section 1.492, paragraphs (a), (b), and (d), are revised to adjust fees established therein to reflect fluctuations in the CPI.

Other Considerations

This final rule contains no information collection within the meaning of the Paperwork Reduction Act of 1995, 44 U.S.C. 3501 et seq. This final rule has been determined to be not significant for purposes of Executive Order 12866. This final rule does not contain policies with Federalism implications sufficient to warrant preparation of a Federalism Assessment under Executive Order 13132 (August 4, 1999).

Prior notice and opportunity for public comment for patent fee changes are not required by the Patent Statute or the Administrative Procedure Act. While the Patent Statute specifically requires that changes to patent fees shall not take effect “until at least 30 days after notice of the fee has been published in the Federal Register and in the Official Gazette of the United States Patent and Trademark Office,” 35 U.S.C. 41(g), the statute does not require any additional publication of proposed fee changes. In addition, changes in patent fees are exempted from the notice of proposed rulemaking requirements of the Administrative Procedure Act under 5 U.S.C. 553(a)(2), as the establishment of fee amounts is a matter related to agency management.

As prior notice and an opportunity for public comment are not required pursuant to 5 U.S.C. 553, or any other law, the analytical requirements of the Regulatory Flexibility Act, 5 U.S.C. 601 et seq., are inapplicable.

A comparison of existing and new fee amounts is included as an Appendix to this final rule.

List of Subjects in 37 CFR Part 1

Administrative practice and procedure, Inventions and patents, Reporting and recordkeeping requirements, Small businesses.

For the reasons set forth in the preamble, the USPTO is amending title 37 of the Code of Federal Regulations, Part 1, as set forth below.

PART 1—RULES OF PRACTICE IN PATENT CASES

1. The authority citation for 37 CFR part 1 continues to read as follows:

Authority: 35 U.S.C. 2(b)(2), unless otherwise noted.

2. Section 1.16 is amended by revising paragraphs (a), (b), (d), and (f) through (i) to read as follows:

§ 1.16 National application filing fees.

(a) Basic fee for filing each application for an original patent, except provisional, design, or plant applications:

By a small entity (§ 1.9(f))—$355.00

By other than a small entity—$710.00

(b) In addition to the basic filing fee in an original application, except provisional applications, for filing or later presentation of each independent claim in excess of 3:

By a small entity (§ 1.9(f))—$40.00

By other than a small entity—$80.00

* * * * *

(d) In addition to the basic filing fee in an original application, except provisional applications, if the application contains, or is amended to contain, a multiple dependent claim(s), per application:

By a small entity (§ 1.9(f))—$135.00

By other than a small entity—$270.00

* * * * *

(f) Basic fee for filing each design application:

By a small entity (§ 1.9(f))—$160.00

By other than a small entity—$320.00

(g) Basic fee for filing each plant application, except provisional applications:

By a small entity (§ 1.9(f))—$245.00

By other than a small entity—$490.00

(h) Basic fee for filing each reissue application:

By a small entity (§ 1.9(f))—$355.00

By other than a small entity—$710.00

(i) In addition to the basic filing fee in a reissue application, for filing or later presentation of each independent claim which is in excess of the number of independent claims in the original patent:

By a small entity (§ 1.9(f))—$40.00

By other than a small entity—$80.00

* * * * *

3. Section 1.17 is amended by revising paragraphs (a)(2) through (a)(5), (b) through (e), (m), (r), and (s) to read as follows:

§ 1.17 Patent application processing fees.

(a) * * *

(1) * * *

(2) For reply within second month:

By a small entity (§ 1.9(f))—$195.00

By other than a small entity—$390.00

(3) For reply within third month:

By a small entity (§ 1.9(f))—$445.00

By other than a small entity—$890.00

(4) For reply within fourth month:

By a small entity (§ 1.9(f))—$695.00

By other than a small entity—$1,390.00

(5) For reply within fifth month:

By a small entity (§ 1.9(f))—$945.00

By other than a small entity—$1,890.00

* * * * *

(b) For filing a notice of appeal from the examiner to the Board of Patent Appeals and Interferences:

By a small entity (§ 1.9(f))—$155.00

By other than a small entity—$310.00

(c) In addition to the fee for filing a notice of appeal, for filing a brief in support of an appeal:

By a small entity (§ 1.9(f))—$155.00

By other than a small entity—$310.00

(d) For filing a request for an oral hearing before the Board of Patent Appeals and Interferences in an appeal under 35 U.S.C. 134:

By a small entity (§ 1.9(f))—$135.00

By other than a small entity—$270.00

(e) To request continued examination pursuant to § 1.114:

By a small entity (§ 1.9(f))—$355.00

By other than a small entity—$710.00

* * * * *

(m) For filing a petition for the revival of an unintentionally abandoned application or the unintentionally delayed payment of the issue fee under 35 U.S.C. 41(a)(7) (§ 1.137(b)):

By a small entity (§ 1.9(f))—$620.00

By other than a small entity—$1,240.00

* * * * *

(r) For entry of a submission after final rejection under § 1.129(a):

By a small entity (§ 1.9(f))—$355.00

By other than a small entity—$710.00

(s) For each additional invention requested to be examined under § 1.129(b):

By a small entity (§ 1.9(f))—$355.00

By other than a small entity—$710.00

4. Section 1.18 is revised to read as follows:

§ 1.18 Patent issue fees.

(a) Issue fee for issuing each original or reissue patent, except a design or plant patent:

By a small entity (§ 1.9(f))—$620.00

By other than a small entity—$1,240.00

(b) Issue fee for issuing a design patent:

By a small entity (§ 1.9(f))—$220.00

By other than a small entity—$440.00

(c) Issue fee for issuing a plant patent:

By a small entity (§ 1.9(f))—$300.00

By other than a small entity—$600.00

5. Section 1.20 is amended by revising paragraphs (e) through (g) to read as follows:

§ 1.20 Post issuance fees.

* * * * *

(e) For maintaining an original or reissue patent, except a design or plant patent, based on an application filed on or after December 12, 1980, in force beyond four years; the fee is due by three years and six months after the original grant:

By a small entity (§ 1.9(f))—$425.00

By other than a small entity—$850.00

(f) For maintaining an original or reissue patent, except a design or plant patent, based on an application filed on or after December 12, 1980, in force beyond eight years; the fee is due by seven years and six months after the original grant:

By a small entity (§ 1.9(f))—$975.00

By other than a small entity—$1,950.00

(g) For maintaining an original or reissue patent, except a design or plant patent, based on an application filed on or after December 12, 1980, in force beyond twelve years; the fee is due by eleven years and six months after the original grant:

By a small entity (§ 1.9(f))—$1,495.00

By other than a small entity—$2,990.00

* * * * *

6. Section 1.21 is amended by revising paragraph (a)(6) to read as follows:

§ 1.21 Miscellaneous fees and charges.

* * * * *

(a) * * *

(6) For requesting regrading of an examination under § 10.7(c):

(i) Regrading of seven or fewer questions—$230.00

(ii) Regrading of eight or more questions—$460.00

* * * * *

7. Section 1.492 is amended by revising paragraphs (a), (b), and (d) to read as follows:

§ 1.492 National stage fees.

* * * * *

(a) The basic national fee:

(1) Where an international preliminary examination fee as set forth in § 1.482 has been paid on the international application to the United States Patent and Trademark Office:

By a small entity (§ 1.9(f))—345.00

By other than a small entity—690.00

(2) Where no international preliminary examination fee as set forth in § 1.482 has been paid to the United States Patent and Trademark Office, but an international search fee as set forth in § 1.445(a)(2) has been paid on the international application to the United States Patent and Trademark Office as an International Searching Authority:

By a small entity (§ 1.9(f))—355.00

By other than a small entity—710.00

(3) Where no international preliminary examination fee as set forth in § 1.482 has been paid and no international search fee as set forth in § 1.445(a)(2) has been paid on the international application to the United States Patent and Trademark Office:

By a small entity (§ 1.9(f))—500.00

By other than a small entity—1,000.00

(4) Where an international preliminary examination fee as set forth in § 1.482 has been paid to the United States Patent and Trademark Office, and the international preliminary examination report states that the criteria of novelty, inventive step (non-obviousness), and industrial applicability, as defined in PCT Article 33 (1) to (4) have been satisfied for all the claims presented in the application entering the national stage (see § 1.496(b)):

By a small entity (§ 1.9(f))—50.00

By other than a small entity—100.00

(5) Where a search report on the international application has been prepared by the European Patent Office or the Japanese Patent Office:

By a small entity (§ 1.9(f))—430.00

By other than a small entity—860.00

(b) In addition to the basic national fee, for filing or later presentation of each independent claim in excess of 3:

By a small entity (§ 1.9(f))—40.00

By other than a small entity—80.00

* * * * *

(d) In addition to the basic national fee, if the application contains, or is amended to contain, a multiple dependent claim(s), per application:

By a small entity (§ 1.9(f))—135.00

By other than a small entity—270.00

* * * * *

Dated: July 14, 2000.
Q. Todd Dickinson,
Under Secretary of Commerce for Intellectual Property and Director of the United States Patent and Trademark Office.

Note: The following appendix is provided as a courtesy to the public, but is not a substitute for the rules. It will not appear in the Code of Federal Regulations.

Appendix A—Comparison of Existing and New Fee Amounts

[—Indicates fees remain at FY 2000 amount]
Fee code | 37 CFR Sec. | Description | FY 2000 | FY 2001
101 | 1.16(a) | Basic filing fee—Utility | $690 | $710
201 | 1.16(a) | Basic filing fee—Utility (Small Entity) | 345 | 355
131 | 1.16(a) | Basic filing fee—Utility (CPA) | 690 | 710
231 | 1.16(a) | Basic filing fee—Utility (CPA) (Small Entity) | 345 | 355
102 | 1.16(b) | Independent claims in excess of three | 78 | 80
202 | 1.16(b) | Independent claims in excess of three (Small Entity) | 39 | 40
103 | 1.16(c) | Claims in excess of twenty | 18 | —
203 | 1.16(c) | Claims in excess of twenty (Small Entity) | 9 | —
104 | 1.16(d) | Multiple dependent claim | 260 | 270
204 | 1.16(d) | Multiple dependent claim (Small Entity) | 130 | 135
105 | 1.16(e) | Surcharge—Late filing fee | 130 | —
205 | 1.16(e) | Surcharge—Late filing fee (Small Entity) | 65 | —
106 | 1.16(f) | Design filing fee | 310 | 320
206 | 1.16(f) | Design filing fee (Small Entity) | 155 | 160
132 | 1.16(f) | Design filing fee (CPA) | 310 | 320
232 | 1.16(f) | Design filing fee (CPA) (Small Entity) | 155 | 160
107 | 1.16(g) | Plant filing fee | 480 | 490
207 | 1.16(g) | Plant filing fee (Small Entity) | 240 | 245
133 | 1.16(g) | Plant filing fee (CPA) | 480 | 490
233 | 1.16(g) | Plant filing fee (CPA) (Small Entity) | 240 | 245
108 | 1.16(h) | Reissue filing fee | 690 | 710
208 | 1.16(h) | Reissue filing fee (Small Entity) | 345 | 355
134 | 1.16(h) | Reissue filing fee (CPA) | 690 | 710
234 | 1.16(h) | Reissue filing fee (CPA) (Small Entity) | 345 | 355
109 | 1.16(i) | Reissue independent claims | 78 | 80
209 | 1.16(i) | Reissue independent claims (Small Entity) | 39 | 40
110 | 1.16(j) | Reissue claims in excess of twenty | 18 | —
210 | 1.16(j) | Reissue claims in excess of twenty (Small Entity) | 9 | —
114 | 1.16(k) | Provisional application filing fee | 150 | —
214 | 1.16(k) | Provisional application filing fee (Small Entity) | 75 | —
127 | 1.16(l) | Surcharge—Late provisional filing fee | 50 | —
227 | 1.16(l) | Surcharge—Late provisional filing fee (Small Entity) | 25 | —
115 | 1.17(a)(1) | Extension—First month | 110 | —
215 | 1.17(a)(1) | Extension—First month (Small Entity) | 55 | —
116 | 1.17(a)(2) | Extension—Second month | 380 | 390
216 | 1.17(a)(2) | Extension—Second month (Small Entity) | 190 | 195
117 | 1.17(a)(3) | Extension—Third month | 870 | 890
217 | 1.17(a)(3) | Extension—Third month (Small Entity) | 435 | 445
118 | 1.17(a)(4) | Extension—Fourth month | 1,360 | 1,390
218 | 1.17(a)(4) | Extension—Fourth month (Small Entity) | 680 | 695
128 | 1.17(a)(5) | Extension—Fifth month | 1,850 | 1,890
228 | 1.17(a)(5) | Extension—Fifth month (Small Entity) | 925 | 945
119 | 1.17(b) | Notice of appeal | 300 | 310
219 | 1.17(b) | Notice of appeal (Small Entity) | 150 | 155
120 | 1.17(c) | Filing a brief in support of an appeal | 300 | 310
220 | 1.17(c) | Filing a brief in support of an appeal (Small Entity) | 150 | 155
121 | 1.17(d) | Request for oral hearing | 260 | 270
221 | 1.17(d) | Request for oral hearing (Small Entity) | 130 | 135
179 | 1.17(e) | Request for continued examination (RCE) | 690 | 710
279 | 1.17(e) | Request for continued examination (RCE) (Small Entity) | 345 | 355
122 | 1.17(h) | Petition—Not all inventors | 130 | —
122 | 1.17(h) | Petition—Correction of inventorship | 130 | —
122 | 1.17(h) | Petition—Decision on questions | 130 | —
122 | 1.17(h) | Petition—Suspend rules | 130 | —
122 | 1.17(h) | Petition—Expedited license | 130 | —
122 | 1.17(h) | Petition—Scope of license | 130 | —
122 | 1.17(h) | Petition—Retroactive license | 130 | —
122 | 1.17(h) | Petition—Refusing maintenance fee | 130 | —
122 | 1.17(h) | Petition—Refusing maintenance fee—expired patent | 130 | —
122 | 1.17(h) | Petition—Interference | 130 | —
122 | 1.17(h) | Petition—Reconsider interference | 130 | —
122 | 1.17(h) | Petition—Late filing of interference | 130 | —
122 | 1.20(b) | Petition—Correction of inventorship | 130 | —
122 | 1.17(h) | Petition—Refusal to publish SIR | 130 | —
122 | 1.17(i) | Petition—For assignment | 130 | —
122 | 1.17(i) | Petition—For application | 130 | —
122 | 1.17(i) | Petition—Late priority papers | 130 | —
122 | 1.17(i) | Petition—Suspend action | 130 | —
122 | 1.17(i) | Petition—Divisional reissues to issue separately | 130 | —
122 | 1.17(i) | Petition—For interference agreement | 130 | —
122 | 1.17(i) | Petition—Amendment after issue | 130 | —
122 | 1.17(i) | Petition—Withdrawal after issue | 130 | —
122 | 1.17(i) | Petition—Defer issue | 130 | —
122 | 1.17(i) | Petition—Issue to assignee | 130 | —
122 | 1.17(i) | Petition—Accord a filing date under § 1.53 | 130 | —
122 | 1.17(i) | Petition—Accord a filing date under § 1.62 | 130 | —
122 | 1.17(i) | Petition—Make application special | 130 | —
138 | 1.17(j) | Petition—Public use proceeding | 1,510 | —
139 | 1.17(k) | Non-English specification | 130 | —
140 | 1.17(l) | Petition—Revive unavoidably abandoned appl. | 110 | —
240 | 1.17(l) | Petition—Revive unavoidably abandoned appl. (Small Entity) | 55 | —
141 | 1.17(m) | Petition—Revive unintentionally abandoned appl. | 1,210 | 1,240
241 | 1.17(m) | Petition—Revive unintent. abandoned appl. (Small Entity) | 605 | 620
112 | 1.17(n) | SIR—Prior to examiner's action | 920 | —
113 | 1.17(o) | SIR—After examiner's action | 1,840 | —
126 | 1.17(p) | Submission of an Information Disclosure Statement (§ 1.97) | 240 | —
123 | 1.17(q) | Petition—Correction of inventorship (prov. app.) | 50 | —
123 | 1.17(q) | Petition—Accord a filing date (prov. app.) | 50 | —
123 | 1.17(q) | Petition—Entry of submission after final rejection (prov. app.) | 50 | —
146 | 1.17(r) | Filing a submission after final rejection (1.129(a)) | 690 | 710
246 | 1.17(r) | Filing a submission after final rejection (1.129(a)) (Small Entity) | 345 | 355
149 | 1.17(s) | Per additional invention to be examined (1.129(b)) | 690 | 710
249 | 1.17(s) | Per additional invention to be examined (1.129(b)) (Small Entity) | 345 | 355
142 | 1.18(a) | Utility issue fee | 1,210 | 1,240
242 | 1.18(a) | Utility issue fee (Small Entity) | 605 | 620
143 | 1.18(b) | Design issue fee | 430 | 440
243 | 1.18(b) | Design issue fee (Small Entity) | 215 | 220
144 | 1.18(c) | Plant issue fee | 580 | 600
244 | 1.18(c) | Plant issue fee (Small Entity) | 290 | 300
561 | 1.19(a)(1)(i) | Patent copy | 3 | —
562 | 1.19(a)(1)(ii) | Patent copy, overnight delivery to USPTO Box or overnight fax | 6 | —
563 | 1.19(a)(1)(iii) | Patent copy, ordered by expedited mail or fax—exp. service | 25 | —
564 | 1.19(a)(2) | Plant patent copy | 15 | —
565 | 1.19(a)(3) | Copy of utility patent or SIR in color | 25 | —
566 | 1.19(b)(1)(i) | Certified copy of patent application as filed | 15 | —
567 | 1.19(b)(1)(ii) | Certified copy of patent application as filed, expedited | 30 | —
568 | 1.19(b)(2) | Cert. or uncert. copy of patent-related file wrapper and contents | 150 | —
569 | 1.19(b)(3) | Cert. or uncert. copy of document, unless otherwise provided | 25 | —
570 | 1.19(b)(4) | For assignment records, abstract of title and certification | 25 | —
571 | 1.19(c) | Library service | 50 | —
572 | 1.19(d) | List of U.S. patents and SIRs in subclass | 3 | —
573 | 1.19(e) | Uncertified statement re status of maintenance fee payment | 10 | —
574 | 1.19(f) | Copy of non-U.S. document | 25 | —
575 | 1.19(g) | Comparing and certifying copies, per document, per copy | 25 | —
576 | 1.19(h) | Duplicate or corrected filing receipt | 25 | —
145 | 1.20(a) | Certificate of correction | 100 | —
147 | 1.20(c) | Filing a request for reexamination | 2,520 | —
148 | 1.20(d) | Statutory disclaimer | 110 | —
248 | 1.20(d) | Statutory disclaimer (Small Entity) | 55 | —
183 | 1.20(e) | Maintenance fee—due at 3.5 years | 830 | 850
283 | 1.20(e) | Maintenance fee—due at 3.5 years (Small Entity) | 415 | 425
184 | 1.20(f) | Maintenance fee—due at 7.5 years | 1,900 | 1,950
284 | 1.20(f) | Maintenance fee—due at 7.5 years (Small Entity) | 950 | 975
185 | 1.20(g) | Maintenance fee—due at 11.5 years | 2,910 | 2,990
285 | 1.20(g) | Maintenance fee—due at 11.5 years (Small Entity) | 1,455 | 1,495
186 | 1.20(h) | Surcharge—Late payment within 6 months | 130 | —
286 | 1.20(h) | Surcharge—Late payment within 6 months (Small Entity) | 65 | —
187 | 1.20(i)(1) | Surcharge—Maintenance after expiration—unavoidable | 700 | —
188 | 1.20(i)(2) | Surcharge—Maintenance after expiration—unintentional | 1,640 | —
111 | 1.20(j)(1) | Extension of term of patent (1.740) | 1,120 | —
124 | 1.20(j)(2) | Initial application for interim extension (1.790) | 420 | —
125 | 1.20(j)(3) | Subsequent application for interim extension (1.790) | 220 | —
609 | 1.21(a)(1)(i) | Application fee (non-refundable) | 40 | —
619 | 1.21(a)(1)(ii) | Registration examination fee | 310 | —
610 | 1.21(a)(2) | Registration to practice | 100 | —
611 | 1.21(a)(3) | Reinstatement to practice | 40 | —
612 | 1.21(a)(4) | Copy of certificate of good standing | 10 | —
613 | 1.21(a)(4) | Certificate of good standing—suitable for framing | 20 | —
615 | 1.21(a)(5) | Review of decision of Director, OED | 130 | —
616 | 1.21(a)(6)(i) | Regrading of seven or fewer questions | 230 | —
620 | 1.21(a)(6)(ii) | Regrading of eight or more questions | 460 | —
607 | 1.21(b)(1) | Establish deposit account | 10 | —
608 | 1.21(b)(2) | Service charge for below minimum balance | 25 | —
608 | 1.21(b)(3) | Service charge for below minimum balance—restricted account | 25 | —
577 | 1.21(c) | Disclosure document filing fee | 10 | —
578 | 1.21(d) | Local delivery box rental, annually | 50 | —
579 | 1.21(e) | International type search report | 40 | —
580 | 1.21(g) | Self-service copy charge, per page | .25 | —
581 | 1.21(h) | Recording each patent assignment, per property | 40 | —
583 | 1.21(i) | Publication in Official Gazette | 25 | —
584 | 1.21(j) | Labor charges for services, per hour or fraction thereof | 40 | —
585 | 1.21(k) | Unspecified other services, excluding labor | (¹) | —
592 | 1.21(k) | APS-CSIR terminal session time, per hour | 50 | —
586 | 1.21(l) | Retaining abandoned application | 130 | —
617 | 1.21(m) | Processing returned checks | 50 | —
587 | 1.21(n) | Handling fee for incomplete or improper application | 130 | —
588 | 1.21(o) | APS-Text terminal session time, per hour | 40 | —
590 | 1.24 | Coupons for patent and trademark copies | 3 | —
589 | 1.296 | Handling fee for withdrawal of SIR | 130 | —
150 | 1.445(a)(1) | Transmittal fee | 240 | —
153 | 1.445(a)(2)(i) | PCT search fee—prior U.S. application | 450 | —
151 | 1.445(a)(2)(ii) | PCT search fee—no U.S. application | 700 | —
152 | 1.445(a)(3) | Supplemental search per additional invention | 210 | —
190 | 1.482(a)(1)(i) | Preliminary examination fee—ISA was the U.S | 490 | —
191 | 1.482(a)(1)(ii) | Preliminary examination fee—ISA not the U.S | 750 | —
192 | 1.482(a)(2)(i) | Additional invention—ISA was the U.S | 140 | —
193 | 1.482(a)(2)(ii) | Additional invention—ISA not the U.S. | 270 | —
956 | 1.492(a)(1) | IPEA—U.S | 670 | 690
957 | 1.492(a)(1) | IPEA—U.S. (Small Entity) | 335 | 345
958 | 1.492(a)(2) | ISA—U.S | 690 | 710
959 | 1.492(a)(2) | ISA—U.S. (Small Entity) | 345 | 355
960 | 1.492(a)(3) | USPTO not ISA or IPEA | 970 | 1,000
961 | 1.492(a)(3) | USPTO not ISA or IPEA (Small Entity) | 485 | 500
962 | 1.492(a)(4) | Claims—IPEA | 96 | 100
963 | 1.492(a)(4) | Claims—IPEA (Small Entity) | 48 | 50
970 | 1.492(a)(5) | Filing with EPO or JPO search report | 840 | 860
971 | 1.492(a)(5) | Filing with EPO or JPO search report (Small Entity) | 420 | 430
964 | 1.492(b) | Claims—extra independent (over three) | 78 | 80
965 | 1.492(b) | Claims—extra independent (over three) (Small Entity) | 39 | 40
966 | 1.492(c) | Claims—extra total (over twenty) | 18 | —
967 | 1.492(c) | Claims—extra total (over twenty) (Small Entity) | 9 | —
968 | 1.492(d) | Claims—multiple dependent | 260 | 270
969 | 1.492(d) | Claims—multiple dependent (Small Entity) | 130 | 135
154 | 1.492(e) | Surcharge | 130 | —
254 | 1.492(e) | Surcharge (Small Entity) | 65 | —
156 | 1.492(f) | English translation after twenty or thirty months | 130 | —
361 | 2.6(a)(1) | Application for registration, per class | 325 | —
362 | 2.6(a)(2) | Amendment to Allege Use, per class | 100 | —
363 | 2.6(a)(3) | Statement of Use, per class | 100 | —
364 | 2.6(a)(4) | Extension for filing Statement of Use, per class | 150 | —
365 | 2.6(a)(5) | Application for renewal, per class | 400 | —
366 | 2.6(a)(6) | Additional fee for late renewal, per class | 100 | —
367 | 2.6(a)(7) | Publication of mark under § 12(c), per class | 100 | —
368 | 2.6(a)(8) | Issuing new certificate of registration | 100 | —
369 | 2.6(a)(9) | Certificate of correction, registrant's error | 100 | —
370 | 2.6(a)(10) | Filing disclaimer to registration | 100 | —
371 | 2.6(a)(11) | Filing amendment to registration | 100 | —
372 | 2.6(a)(12) | Filing section 8 affidavit, per class | 100 | —
373 | 2.6(a)(13) | Filing section 15 affidavit, per class | 200 | —
381 | 2.6(a)(14) | Filing a section 8 affidavit during the grace period, per class | 100 | —
375 | 2.6(a)(15) | Petition to the Director | 100 | —
376 | 2.6(a)(16) | Petition for cancellation, per class | 300 | —
377 | 2.6(a)(17) | Notice of opposition, per class | 300 | —
378 | 2.6(a)(18) | Ex parte appeal, per class | 100 | —
379 | 2.6(a)(19) | Dividing an application, per new application created | 100 | —
382 | 2.6(a)(20) | Correcting a deficiency in a section 8 affidavit | 100 | —
380 | 2.6(a)(21) | Correcting a deficiency in a renewal application | 100 | —
461 | 2.6(b)(1)(i) | Copy of registered mark | 3 | —
462 | 2.6(b)(1)(ii) | Copy of registered mark, overnight delivery to USPTO box or fax | 6 | —
463 | 2.6(b)(1)(iii) | Copy of reg. mark ordered by exp. mail or fax, exp. service | 25 | —
466 | 2.6(b)(2)(i) | Certified copy of trademark application as filed | 15 | —
467 | 2.6(b)(2)(ii) | Certified copy of trademark application as filed, expedited | 30 | —
468 | 2.6(b)(3) | Cert. or uncert. copy of TM-related file wrapper and contents | 50 | —
464 | 2.6(b)(4)(i) | Cert. copy of registered mark, with title or status | 15
465 | 2.6(b)(4)(ii) | Cert. copy of registered mark, with title or status—expedited | 30 | —
469 | 2.6(b)(5) | Certified or uncertified copy of trademark document | 25 | —
481 | 2.6(b)(6) | Recording trademark property, per mark, per document | 40 | —
482 | 2.6(b)(6) | For second and subsequent marks in the same document | 25 | —
470 | 2.6(b)(7) | For assignment records, abstracts of title and certification | 25 | —
488 | 2.6(b)(8) | X-SEARCH terminal session time, per hour | 40 | —
480 | 2.6(b)(9) | Self-service copy charge, per page | 0.25 | —
484 | 2.6(b)(10) | Labor charges for services, per hour or fraction thereof | 40 | —
485 | 2.6(b)(11) | Unspecified other services, excluding labor | (¹)­ | —
650 | 2.7(a) | Recordal application fee | 20 | —
651 | 2.7(b) | Renewal application fee | 20 | —
652 | 2.7(c) | Late fee for renewal application | 20 | —
¹ Actual Cost.

[FR Doc. 00-20354 Filed 8-10-00; 8:45 am]

BILLING CODE 3510-16-P